DEPARTMENT OF COMMERCE

International Trade Administration

[C-489-830]

Steel Concrete Reinforcing Bar From the Republic of Turkey: Preliminary Results of Countervailing Duty Administrative Review; 2017

AGENCY: Enforcement and Compliance, International Trade Administration, Department of Commerce.

SUMMARY: The Department of Commerce (Commerce) preliminary determines that a producer/exporter of steel concrete reinforcing bar (rebar) from the Republic of Turkey (Turkey) received countervailable subsidies during the period of review (POR) March 1, 2017 through December 31, 2017. Interested parties are invited to comment on these preliminary results.

DATES: Applicable September 16, 2019.

FOR FURTHER INFORMATION CONTACT: Kathryn Turlo, AD/CVD Operations, Office VII, Enforcement and Compliance, International Trade Administration, U.S. Department of Commerce, 1401 Constitution Avenue NW, Washington, DC 20230; telephone: (202) 482-3870.

SUPPLEMENTARY INFORMATION:

Background

On September 10, 2018, Commerce published a notice of initiation of an administrative review of the countervailing duty (CVD) order on rebar from Turkey.¹ On March 28, 2019, Commerce extended the deadline for the preliminary results to September 6, 2019.² Commerce preliminarily finds that the mandatory respondent, Habas Sinai ve Tibbi Gazlar Istihsal Endustrisi A.S. (Habas),³ received countervailable subsidies during the POR. For a complete description of the events that followed the initiation of this review, see the Preliminary Decision Memorandum.⁴ A list of topics discussed in the Preliminary Decision Memorandum is included at the appendix to this notice. The Preliminary Decision Memorandum is a public document and is on file electronically via Enforcement and Compliance's Antidumping and Countervailing Duty Centralized Electronic Service System (ACCESS). ACCESS is available to registered users at http://access.trade.gov and is available to all parties in the Central Records Unit, Room B8024 of the main Commerce building. In addition, a complete version of the Preliminary Decision Memorandum can be accessed directly at http://enforcement.trade.gov/frn/. The signed and electronic versions of the Preliminary Decision Memorandum are identical in content.

¹ See Initiation of Antidumping and Countervailing Duty Administrative Reviews, 83 FR 45596, 45606 (September 10, 2018).

² See Memorandum, “Steel Concrete Reinforcing Bar from the Republic of Turkey: Extension of Deadline for Preliminary Results in 2017 Countervailing Duty Administrative Review,” dated March 28, 2019.

³ Habas is the sole Turkish rebar producer/exporter excluded from the existing CVD order on rebar from Turkey. See Steel Concrete Reinforcing Bar from the Republic of Turkey: Countervailing Duty Order, 79 FR 65926 (November 6, 2014) (2014 Turkey CVD Order).

⁴ See Memorandum, “Decision Memorandum for the Preliminary Results of Countervailing Duty Administrative Review: Steel Concrete Reinforcing Bar from the Republic of Turkey; 2017,” dated concurrently with, and hereby adopted by, this notice (Preliminary Decision Memorandum).

On January 28, 2019, Commerce exercised its discretion to toll all deadlines affected by the partial federal government closure from December 22, 2018 through the resumption of operations on January 29, 2019.⁵ On August 7, 2019 Commerce postponed the preliminary results of this review until September 6, 2019.⁶

⁵ See Memorandum to the Record from Gary Taverman, Deputy Assistant Secretary for Antidumping and Countervailing Duty Operations, performing the non-exclusive functions and duties of the Assistant Secretary for Enforcement and Compliance, “Deadlines Affected by the Partial Shutdown of the Federal Government,” dated January 28, 2019. All deadlines in this segment of the proceeding have been extended by 40 days.

⁶ See Memorandum, “Steel Concrete Reinforcing Bar from the Republic of Turkey: Second Extension of Deadline for Preliminary Results of Antidumping Duty Administrative Review—2017-2018,” dated August 7, 2019.

Scope of the Order

The merchandise covered by the order is rebar from Turkey. For a complete description of the scope, see the Preliminary Decision Memorandum.

Methodology

Commerce is conducting this administrative review in accordance with section 751(a)(1)(A) of the Tariff Act of 1930, as amended (the Act). For each subsidy program found countervailable, we preliminarily find that there is a subsidy, i.e., a government-provided financial contribution that gives rise to a benefit to the recipient, and that the subsidy is specific.⁷ For a full description of the methodology underlying our conclusions, see the Preliminary Decision Memorandum.

⁷ See sections 771(5)(B) and (D) of the Act regarding financial contribution; section 771(5)(E) of the Act regarding benefit; and section 771(5A) of the Act regarding specificity.

Preliminary Results of the Review

Commerce calculated an individual estimated countervailable subsidy rate for Habas, the only individually examined exporter/producer in this review, for the period March 1, 2017 through December 31, 2017, as follows:

Company | Subsidy rate ad valorem (percent)
Habas Sinai ve Tibbi Gazlar Istihsal Endustrisi A.S.⁸ | 3.08

Assessment Rates

⁸ This rate applies only to merchandise both produced and exported by Habas. Merchandise produced by Habas, but exported by another company, or produced by another company and exported by Habas continues to be covered by the 2014 Turkey CVD Order.

Consistent with section 751(a)(2)(C) of the Act, upon issuance of the final results, Commerce shall determine, and U.S. Customs and Border Protection (CBP) shall assess, countervailing duties on all appropriate entries covered by this review. We intend to issue instructions to CBP 15 days after publication of the final results of this review.

Cash Deposit Requirements

Pursuant to section 751(a)(1) of the Act, Commerce intends to instruct CBP to collect cash deposits of estimated countervailing duties in the amount indicated above for the reviewed companies, with regard to shipments of subject merchandise entered, or withdrawn from warehouse, for consumption on or after the date of publication of the final results of this review. For all other firms, we will instruct CBP to collect cash deposits at the most recent company-specific or all-others rate applicable to the company, as appropriate. These cash deposit requirements, when imposed, shall remain in effect until further notice.

Disclosure and Public Comment

We will disclose to the parties in this proceeding the calculations performed in reaching the preliminary results within five days of the date of publication of this notice.⁹ Interested parties may submit written arguments (case briefs) on the preliminary results within 30 days of publication of the preliminary results, and rebuttal comments (rebuttal briefs) within five days after the time limit for filing case briefs.¹⁰ Pursuant to 19 CFR 351.309(d)(2), rebuttal briefs must be limited to issues raised in the case briefs. Parties who submit arguments are requested to submit with the argument: (1) Statement of the issue; (2) a brief summary of the argument; and (3) a table of authorities.¹¹

⁹ See 19 CFR 351.224(b).

¹⁰ See 19 CFR 351.309(c)(1)(ii); 351.309(d)(1); and 19 CFR 351.303 (for general filing requirements).

¹¹ See 19 CFR 351.309(c)(2) and 351.309(d)(2).

Interested parties who wish to request a hearing, or to participate if one is requested, must submit a written request within 30 days after the date of publication of this notice.¹² Requests should contain the party's name, address, and telephone number, the number of participants, and a list of the issues to be discussed. If Commerce receives a request for a hearing, we will inform parties of the scheduled date for the hearing, which will be held at the main Department of Commerce building at a time and location to be determined.¹³ Parties should confirm by telephone the date, time, and location of the hearing.

¹² See 19 CFR 351.310(c).

¹³ See 19 CFR 351.310.

Parties are reminded that briefs and hearing requests are to be filed electronically using ACCESS and received successfully in their entirety by 5:00 p.m. Eastern Time on the due date.

Unless the deadline is extended pursuant to section 751(a)(3)(A) of the Act, Commerce intends to issue the final results of this administrative review, including the results of our analysis of the issues raised by parties in their comments, within 120 days after publication of these preliminary results.

Notification to Interested Parties

These preliminary results of review are issued and published in accordance with sections 751(a)(1) and 777(i)(1) of the Act and 19 CFR 351.213 and 351.221(b)(4).

Dated: September 6, 2019.
Jeffrey I. Kessler,
Assistant Secretary for Enforcement and Compliance.

Appendix

List of Topics Discussed in the Preliminary Decision Memorandum

I. Summary

II. Background

III. Scope of the Order

IV. Subsidies Valuation Information

V. Analysis of Programs

VIII. Conclusion

[FR Doc. 2019-19921 Filed 9-13-19; 8:45 am]

BILLING CODE 3510-DS-P